SUSQUEHANNA RIVER BASIN COMMISSION

Commission Meeting

AGENCY: Susquehanna River Basin Commission.

ACTION: Notice.

SUMMARY: The Susquehanna River Basin Commission will conduct its regular business meeting on December 12, 2024 in Harrisburg, Pennsylvania. Details concerning the matters to be addressed at the business meeting are contained in the Supplementary Information section of this notice. Also the Commission published a document in the Federal Register on September 30, 2024 concerning its public hearing on October 30, in Harrisburg, Pennsylvania.

DATES: The meeting will be held on Thursday, December 12, 2024, at 9 a.m.

ADDRESSES: This public meeting will be conducted in person and digitally from the Susquehanna River Basin Commission at 4423 North Front Street, Harrisburg, Pennsylvania.

FOR FURTHER INFORMATION CONTACT: Jason E. Oyler, General Counsel and Secretary to the Commission, telephone: 717-238-0423; fax: 717-238-2436.

SUPPLEMENTARY INFORMATION: The business meeting will include actions or presentations on the following items: (1) Regulatory Program Fee Schedule (Resolution 2024-09); (2) approval of contracts and grants; (3) Release Proposed GP-04 Into-Basin Diversion of Water for Public Comment; and (4) Actions on 16 regulatory program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person and digitally at the Susquehanna River Basin Commission, 4423 North Front Street, Harrisburg, Pennsylvania. The public is invited to attend the Commission's business meeting. The public may access the Business Meeting remotely via Zoom: https://us02web.zoom.us/j/89292000071?pwd=S1E2Qi9QNHUyTkhjY3ZoRUJJeXpqUT09 Meeting ID 892 9200 0071; Passcode: SRBC4423! or via telephone: 305-224-1968 or 309-205-3325; Meeting ID 892 9200 0071.

A public hearing and written comment period was provided for the Regulatory Fee Schedule and actions on the 16 projects and the comment period on those proposed actions is closed. Written comments pertaining to all other items on the agenda at the business meeting may be mailed to the Susquehanna River Basin Commission, 4423 North Front Street, Harrisburg, Pennsylvania 17110-1788, or submitted electronically at the link Business Meeting Comments. Comments are due to the Commission for all items on the business meeting agenda on or before December 9, 2024. Comments will not be accepted at the business meeting noticed herein.

Authority: Public Law 91-575, 84 Stat. 1509 et seq., 18 CFR parts 801, 806, and 808.

Dated: November 7, 2024.
Jason E. Oyler,
General Counsel and Secretary to the Commission.

[FR Doc. 2024-26240 Filed 11-12-24; 8:45 am]

BILLING CODE 7040-01-P